DEPARTMENT OF HEALTH AND HUMAN SERVICES

Health Resources and Services Administration

Agency Information Collection Activities: Submission to OMB for Review and Approval; Public Comment Request; Information Collection Request Title: Rural Health Clinic COVID-19 Testing Program Data Collection, OMB No. 0906-0056—Extension

AGENCY: Health Resources and Services Administration (HRSA), Department of Health and Human Services.

ACTION: Notice.

SUMMARY: In compliance with of the Paperwork Reduction Act of 1995, HRSA has submitted an Information Collection Request (ICR) to the Office of Management and Budget (OMB) for review and approval. Comments submitted during the first public review of this ICR will be provided to OMB. OMB will accept further comments from the public during the review and approval period. OMB may act on HRSA's ICR only after the 30 day comment period for this notice has closed.

DATES: Comments on this ICR should be received no later than March 26, 2021.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Lisa Wright-Solomon, the HRSA Information Collection Clearance Officer at paperwork@hrsa.gov or call (301) 443-1984.

SUPPLEMENTARY INFORMATION: Information Collection Request Title: Rural Health Clinic COVID-19 Testing Program Data Collection, OMB No. 0906-0056—Extension.

Abstract: This ICR is for continued approval of the Rural Health Clinic (RHC) COVID-19 Testing Program Data Collection. HRSA is proposing to continue this data collection with no changes. The current performance measures are collected electronically in the RHC COVID-19 Testing Report (CTR), which funded providers access via rhccovidreporting.com. RHC COVID-19 Testing Program Data Collection supports the HRSA requirement to monitor and report on funds distributed under the Paycheck Protection Program and Health Care Enhancement Act. Signed into law on April 24, 2020, the Paycheck Protection Program and Health Care Enhancement Act appropriated $225 million to RHCs to support COVID-19 testing efforts, expand access to testing in rural communities, and other related expenses. On May 20, 2020, HRSA issued funding as one-time payments to 2,406 RHC organizations based on the number of certified clinic sites they operate, providing $49,461.42 per clinic site (4,549 RHC clinic sites total across the country).

The RHC CTR collects monthly, aggregate data from funded organizations. Funded organizations provide basic identifying information, report on the number of and location of testing sites, indicate how they used the funds, and report the total number of patients tested and the number of tests with a positive result.

Funded organizations must report the number of patients tested and the number of positive tests on a monthly basis for the duration of the reporting period. HRSA will use this information to evaluate the effectiveness of COVID-19 Testing Program at an aggregate level, assist HRSA in understanding how RHC COVID-19 Testing Program funding is being used to support RHC organizations and patients, and ensure that HRSA is compliant with federal reporting requirements.

A 60-day notice published in the Federal Register on December 10, 2020, vol. 85, No. 238; p. 79492. There were no public comments.

Need and Proposed Use of the Information: The RHC CTR is designed to collect information from funded providers who use RHC COVID-19 Testing Program funding to support COVID-19 testing efforts, expand access to testing in rural communities, and other related expenses. These data are critical to meet HRSA requirements to monitor and report on how federal funding is being used and to measure the effectiveness of RHC CTR. Specifically, these data will be used to assess the following:

• Whether program funds are being spent for their intended purposes;

• Where COVID-19 testing supported by these funds is occurring;

• Number of patients tested for COVID-19; and

• Results of provided COVID-19 tests.

Likely Respondents: Respondents are RHC organizations who received funding for COVID-19 testing and related expenses.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
RHC COVID-19 Testing Report | 2,406 | 12 | 28,872 | .25 | 7,218

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2021-03749 Filed 2-23-21; 8:45 am]

BILLING CODE 4165-15-P